DEPARTMENT OF ENERGY

Federal Energy Regulatory Commission

Combined Notice Of Filings #3

Take notice that the Commission received the following electric rate filings:

Docket Numbers: ER13-94-006.

Applicants: Avista Corporation.

Description: Compliance filing: Avista Corp OATT Order 1000 Compliance Filing to be effective 11/24/2015.

Filed Date: 11/23/15.

Accession Number: 20151123-5202.

Comments Due: 5 p.m. ET 12/14/15.

Docket Numbers: ER13-99-007.

Applicants: Puget Sound Energy, Inc.

Description: Compliance filing: OATT Order No. 1000 Compliance Filing to be effective 11/24/2015.

Filed Date: 11/23/15.

Accession Number: 20151123-5287.

Comments Due: 5 p.m. ET 12/14/15.

Docket Numbers: ER13-836-006.

Applicants: MATL LLP.

Description: Compliance filing: Compliance Filing Schedule K to be effective 11/24/2015.

Filed Date: 11/23/15.

Accession Number: 20151123-5290.

Comments Due: 5 p.m. ET 12/14/15.

Docket Numbers: ER15-422-002.

Applicants: Avista Corporation.

Description: Compliance filing: Avista Corp Order 1000 FERC Rate Schedule No. CG2 Compliance Filing to be effective 11/24/2015.

Filed Date: 11/23/15.

Accession Number: 20151123-5201.

Comments Due: 5 p.m. ET 12/14/15.

Docket Numbers: ER15-429-003.

Applicants: Puget Sound Energy, Inc.

Description: Compliance filing: Columbia Grid Functional Agreement Second Amendment to be effective 11/24/2015.

Filed Date: 11/23/15.

Accession Number: 20151123-5288.

Comments Due: 5 p.m. ET 12/14/15.

Docket Numbers: ER15-2533-001.

Applicants: Midcontinent Independent System Operator, Inc.

Description: Compliance filing: 2015-11-23_SA 2831 ITC-Geronimo GIA Compliance (J340) to be effective 10/25/2015.

Filed Date: 11/23/15.

Accession Number: 20151123-5203.

Comments Due: 5 p.m. ET 12/14/15.

Docket Numbers: ER16-381-000.

Applicants: New York State Electric & Gas Corporation.

Description: § 205(d) Rate Filing: Executed Services Agreement with FirstEnergy Service Company to be effective 10/23/2015.

Filed Date: 11/23/15.

Accession Number: 20151123-5226.

Comments Due: 5 p.m. ET 12/14/15.

Docket Numbers: ER16-382-000.

Applicants: Dominion Retail, Inc.

Description: Tariff Cancellation: Cancellation of Tariff and Tariff I.D. to be effective 11/24/2015.

Filed Date: 11/23/15.

Accession Number: 20151123-5284.

Comments Due: 5 p.m. ET 12/14/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 23, 2015.
Nathaniel J. Davis, Sr.,
Deputy Secretary.

[FR Doc. 2015-30425 Filed 11-30-15; 8:45 am]

BILLING CODE 6717-01-P